DEPARTMENT OF ENERGY

Environmental Management Advisory Board Meeting

AGENCY: Department of Energy.

ACTION: Notice of Open Meeting.

SUMMARY: This notice announces a meeting of the Environmental Management Advisory Board (EMAB). The Federal Advisory Committee Act (Pub. L. No. 92-463, 86 Stat. 770) requires that public notice of this meeting be announced in the Federal Register.

DATES: Thursday, September 13, 2007. 8 a.m.-4 p.m.

ADDRESSES: La Fonda on the Plaza, 100 East San Francisco Street, Santa Fe, New Mexico 87501.

FOR FURTHER INFORMATION CONTACT: Terri Lamb, Designated Federal Officer, Environmental Management Advisory Board (EM-13), U.S. Department of Energy, 1000 Independence Avenue, SW., Washington, DC 20585. Phone (202) 586-9007; fax (202) 586-0293 or e-mail: terri.lamb@em.doe.gov.

SUPPLEMENTARY INFORMATION:

Purpose of the Board: The purpose of the Board is to provide the Assistant Secretary for Environmental Management with advice and recommendations on corporate issues confronting the Environmental Management Program. The Board will contribute to the effective operation of the Environmental Management Program by providing individual citizens and representatives of interested groups an opportunity to present their views on issues facing the Office of Environmental Management and by helping to secure consensus recommendations on those issues.

Tentative Agenda:

8 a.m. Welcome and Overview.

8:15 a.m. Los Alamos Site Office Presentation.

8:45 a.m. EM Program Update.

9:30 a.m. Roundtable Discussion.

9:45 a.m. Northern New Mexico Citizens' Advisory Board Presentation.

10 a.m. Roundtable Discussion.

10:15 a.m. Break.

10:30 a.m. Environmental Compliance Assessment Program Overview.

11 a.m. Roundtable Discussion.

11:15 a.m. Public Comment Period.

11:30 a.m. Lunch.

1 p.m. Board Business and Committee Reports.

• Approval of March 6-7, 2007, Meeting Minutes.

• Organizational Efficiency Subcommittee.

• EMAB Communications Team.

• Small Business, Acquisition, and Project Management.

• Employee Recruitment and Retention.

• Discretionary Budgeting.

• Technical Uncertainty and Risk Reduction.

• New Business.

• Roundtable Discussion.

• Set Date for Next Meeting.

3:30 p.m. Public Comment Period.

4p.m. Adjournment.

Public Participation: The meeting is open to the public. Written statements may be filed with the Board either before or after the meeting. Individuals who wish to make oral statements pertaining to agenda items should contact Terri Lamb at the address or telephone number above. Requests must be received five days prior to the meeting and reasonable provision will be made to include the presentation in the agenda. Those who call in and register in advance will be given the opportunity to speak first. Others will be accommodated as time permits. The Board Chair is empowered to conduct the meeting in a fashion that will facilitate the orderly conduct of business. Individuals wishing to make public comment will be provided a maximum of five minutes to present their comments.

Minutes: The minutes of the meeting will be available at http://www.em.doe.gov/stakepages/emabmeetings.aspx for viewing and copying. Minutes will also be available by calling Terri Lamb at (202) 586-9007.

Issued at Washington, DC on August 17, 2007.
Rachel Samuel,
Deputy Committee Management Officer.

[FR Doc. E7-16552 Filed 8-21-07; 8:45 am]

BILLING CODE 6450-01-P